ENVIRONMENTAL PROTECTION AGENCY

40 CFR Part 52

[IN 140-4; FRL-7519-7]

Conditional Approval of Implementation Plan; Indiana

AGENCY: Environmental Protection Agency (EPA).

ACTION: Correction to a final rule.

SUMMARY: This document contains corrections to the codification of a final rule which was published on March 3, 2003 (68 FR 9892). The rule being corrected conditionally approved revisions to Indiana's Prevention of Significant Deterioration (PSD) State Implementation Plan (SIP).

EFFECTIVE DATE: This correction is effective June 27, 2003.

FOR FURTHER INFORMATION CONTACT: Julie Capasso, Environmental Scientist, Permits and Grants Section (IL/IN/OH), Air Programs Branch, (AR-18J), U.S. Environmental Protection Agency, Region 5, 77 West Jackson Boulevard, Chicago, Illinois, 60604, telephone (312) 886-1426.

SUPPLEMENTARY INFORMATION: On March 3, 2003 (68 FR 9892), EPA conditionally approved revisions to Indiana's PSD SIP which were submitted to EPA as a requested SIP revision on February 1, 2002. At that time, EPA incorrectly stated the effective date of the State rules incorporated by reference in 40 CFR 52.770(c)(147).

Need for Correction

As published, the final rule contains an incorrect citation of the effective date of some of the rules incorporated by reference. This error was published in the third column on page 9895. Unless this error is corrected, persons seeking a copy of the rules incorrectly cited in the codification of the final rule will be unable to locate the correct document. EPA regrets any inconvenience that this incorrect citation has caused.

List of Subjects in 40 CFR Part 52

Environmental protection, Air pollution control, Incorporation by reference, Intergovernmental relations, Nitrogen dioxide, Particulate matter, Reporting and recordkeeping requirements, Sulfur oxides, Volatile organic compounds.

Dated: June 18, 2003.
Cheryl L. Newton,
Acting Regional Administrator, Region 5.

For the reasons stated in the preamble, part 52, chapter I of title 40 of the Code of Federal Regulations is amended as follows:

PART 52—[AMENDED]

1. The authority citation for part 52 continues to read as follows:

Authority: 42 U.S.C. 7401-et seq.

2. Section 52.770 is amended by revising paragraph (c)(147) to read as follows:

§ 52.770 Identification of plan.

* * * * *

(c) * * *

(147) On February 1, 2002, Indiana submitted its Prevention of Significant Deterioration rules as a revision to the State implementation plan.

(i) Incorporation by reference.

(A) Title 326 of the Indiana Administrative Code, Rules 2-2-1, 2-2-2, 2-2-3, 2-2-4, 2-2-5, 2-2-6, 2-2-7, 2-2-9, 2-2-12, and 2-2-14. Filed with the Secretary of State on December 20, 2001, effective January 19, 2002.

(B) Title 326 of the Indiana Administrative Code, Rules 2-2-8, 2-2-10, 2-2-11, 2-2-13, 2-2-15 and 2-2-16. Filed with the Secretary of State on March 23, 2001, effective April 22, 2001.

(C) Title 326 of the Indiana Administrative Code, Rules 2-1.1-6 and 2-1.1-8. Filed with the Secretary of State on November 25, 1998, effective December 25, 1998. Errata filed with the Secretary of State on May 12, 1999, effective June 26, 1999.

* * * * *

[FR Doc. 03-16327 Filed 6-26-03; 8:45 am]

BILLING CODE 6560-50-P